DEPARTMENT OF LABOR

Employment and Training Administration

[TA-W-42,067]

Huntsman Polymers Corporation Utilities Division, Odessa, TX; Notice of Negative Determination Regarding Application for Reconsideration

By application of October 16, 2002, a petitioner requested administrative reconsideration of the Department's negative determination regarding eligibility for workers and former workers of the subject firm to apply for Trade Adjustment Assistance (TAA). The denial notice was signed on October 7, 2002 and published in the Federal Register on November 5, 2002 (67 FR 67418).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation resulted in a negative determination based on the finding that the subject firm workers did not produce an article within the meaning of section 222(3) of the Trade Act of 1974. The affected workers managed water and raw materials utilized in the various manufacturing processes performed at the subject firm.

The petitioner alleges that the Utility Division was in direct support of a Trade Adjustment Assistance (TAA) certified facility (Huntsman Polymer Corporation, Odessa, Texas (TA-W-39,780) and thus believes the worker group should be certified eligible to receive TAA.

Upon examination of the initial investigation and further contact with the company, it has been determined that only a small portion of the work performed by the subject workers was directed towards that certified TAA facility. The overwhelming majority of the support activities were directed towards other plant product lines, which are not under existing TAA certifications.

The investigation further revealed that the Utilities Division required the same number of workers whether it was at full operating capacity or at a reduced operating level.

The dominant factor leading to the declines in employment at Huntsman Polymers Corporation, Utilities Division, Odessa, Texas was related to a “Feasibility Study” in which it was determined that in order to reduce company costs, the Utilities Division would be merged with another facility at the Odessa site.

Conclusion

After review of the application and investigative findings, I conclude that there has been no error or misinterpretation of the law or of the facts which would justify reconsideration of the Department of Labor's prior decisions. Accordingly, the application is denied.

Signed at Washington, DC this 23rd day of December, 2002.
Edward A. Tomchick,
Director, Division of Trade Adjustment Assistance.

[FR Doc. 03-413 Filed 1-8-03; 8:45 am]

BILLING CODE 4510-30-P